DEPARTMENT OF TRANSPORTATION

Federal Highway Administration

Environmental Impact Statement: Lincoln County, Oregon

AGENCY: Federal Highway Administration (FHWA); Department of Transportation

ACTION: Notice of Intent.

SUMMARY: The FHWA is issuing this notice to advise the public that an Environmental Impact Statement (EIS) will be prepared for a proposed highway improvement in Lincoln County, Oregon. The proposed project is near the rural unincorporated community of Beverly Beach. The Oregon Department of Transportation (ODOT) and FHWA will be analyzing alternatives to constructing a modified or replacement crossing of US 101 over Spencer Creek.

FOR FURTHER INFORMATION CONTACT: Anthony Boesen, Region 2 Liaison Engineer, Federal Highway Administration, Equitable Center, Suite 100, 530 Center Street NE, Salem, Oregon 97301, Telephone (503) 399-5749.

SUPPLEMENTARY INFORMATION: The FHWA, in cooperation with ODOT and the U.S. Army Corps of Engineers (COE), will conduct technical studies, prepare a Draft EIS (DEIS), and conduct a public open house to receive comments regarding the proposed action in accordance with the National Environmental Policy Act (NEPA).

The proposed project is necessary to maintain US 101 as a functional state lifeline highway route. The proposed project will involve a replacement bridge crossing of Spencer Creek on US 101 and construction of stable approaches to the bridge. The original Spencer Creek bridge, built in 1947 and located about six miles north of Newport, Oregon has deteriorated to the point that it has been determined unsafe and closed to traffic. A temporary bridge was constructed in 1999 immediately shoreward of the old bridge and has a design service life of five to eight years. Consequently, the existing Spencer Creek Bridge across the stream must be replaced. The sea cliffs and embankments that support the US 101 approaches to the old and temporary bridges are adjacent to the beach and are unstable. They have been substantially damaged from erosion caused by waves attacking the sea cliff. Landslides have also damaged the existing highway, and may pose hazards further inland. Consequently, any long term solution to the bridge problem will also need to involve stabilization of roadway approaches to any bridge crossing Spencer Creek in order to maintain the state lifeline highway route.

Possible Build Alternatives that will be considered as the proposed project develops will involve two basic concepts. The first concept would generally follow the existing alignment of US 101. The second concept would realign the highway inland and away from the beach. Depending on the location of the highway under either concept, shoreline stabilization may be required. As required by NEPA, a No-Build Alternative will be considered to provide an understanding about what will happen if nothing is done to solve the problem. The DEIS will address the No-Build Alternative and one or more Build Alternatives.

While the FHWA will be the lead agency for preparing the EIS, the COE will be a cooperating agency. Under section 103 of the 1962 River and Harbor Act, the COE has approved funding for planning, engineering and environmental investigations for shoreline stabilization options that would protect US 101 highway facilities along the beach. The COE is expected to consider as part of the proposed action some or all of the following design options—off shore breakwater, terracing the sea cliff, sea cliff toe armoring, and beach nourishment. Pursuant to the NEPA, the COE's analysis of the proposed action will be incorporated into the EIS.

Public workshops, meetings, and a public open house will be held as needed to identify an adequate range of reasonable alternatives, review alternatives, and aid in selection of an alternative. Appropriate notice to interested parties will be provided for all public gatherings regarding the proposed.

The EIS process will combine COE, and FHWA/ODOT work into one series of environmental documents (e.g., technical reports, DEIS, and Final EIS). In conjunction with the FHWA's Record of Decision for the Final EIS, the COE will make a determination regarding the proposed action impacts as required by NEPA for inclusion into their Record of Decision.

To ensure that the full range of issues related to the proposed action are addressed and potentially significant and insignificant issues identified, comments, and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal Programs and activities apply to this program.)
Issued on: August 28, 2002.
Elton Chang,
Environmental Engineer, Oregon Division.

[FR Doc. 02-22678 Filed 9-5-02; 8:45 am]

BILLING CODE 4910-22-M